DEPARTMENT OF COMMERCE

National Oceanic and Atmospheric Administration

[I.D. 062306A]

Magnuson-Stevens Act Provisions; General Provisions for Domestic Fisheries; Application for Exempted Fishing Permits

AGENCY: National Marine Fisheries Service (NMFS), National Oceanic and Atmospheric Administration (NOAA), Commerce.

ACTION: Notice; proposal for an exempted fishing permit to conduct experimental fishing; request for comments.

SUMMARY: The Administrator, Northeast Region, NMFS (Regional Administrator) has made a preliminary determination that the subject exempted fishing permit (EFP) application from the East Coast Pelagic Association (ECPA) that would allow herring vessels to possess haddock while testing modified mid-water herring trawls designed to reduce haddock bycatch contains all the required information and warrants further consideration. The Regional Administrator has also made a preliminary determination that the activities authorized under the EFP would be consistent with the goals and objectives of the Atlantic Herring and Northeast (NE) Multispecies Fishery Management Plans (FMPs). However, further review and consultation may be necessary before a final determination is made to issue the EFP.

DATES: Comments on this document must be received on or before July 14, 2006.

ADDRESSES: Comments on this notice may be submitted by e-mail. The mailbox address for providing e-mail comments is DA6-161@noaa.gov. Include in the subject line of the e-mail comment the following document identifier: “Comments on ECPA EFP Proposal for Modifications to Herring Midwater Trawls to Increase Escapement of Non-Target Species.” Written comments should be sent to Patricia A. Kurkul, Regional Administrator, NMFS, Northeast Regional Office, 1 Blackburn Drive, Gloucester, MA 01930. Mark the outside of the envelope, “Comments on ECPA EFP Proposal for Modifications to Herring Midwater Trawls to Increase Escapement of Non-Target Species.” Comments may also be sent via facsimile (fax) to (978) 281-9135.

FOR FURTHER INFORMATION CONTACT: Ryan Silva, Fishery Management Specialist, phone: 978-281-9326, fax: 978-281-9135.

SUPPLEMENTARY INFORMATION: As part of an experiment titled, “Research Project to Examine Modifications to Herring Midwater Trawls to Increase Escapement of non-target species (i.e., haddock),” exempted vessels would test trawl modifications designed to reduce haddock bycatch in the herring fishery and research the vertical distribution and behavior of herring and haddock during the seasonal and spatial overlap that occurs between these species on Georges Bank. The experiment is being coordinated by the Gulf of Maine Research Institute (GMRI) on behalf of several research partners. The EFP application was submitted by one of the project partners, the ECPA. If approved, the EFP would authorize participating vessels to possess haddock during research activities. Haddock would not be marketed for human consumption. All catch of herring would be reported and accounted for through vessel trip reports (VTR) and interactive voice reporting (IVR). Incidental catch of haddock would be estimated using the NMFS Observer Program sampling protocols established for the herring fishery, and reported to NMFS following each research trip. Both herring and haddock catch would be deducted from the total allowable catch (TAC) specifications for herring Management Area 3 and the 0.2 percent haddock TAC as proposed in Framework 43 to the NE Multispecies FMP, respectively. The herring catch for this project is estimated at 3,500 - 5,000 mt. The 2006 haddock catch cap allocated to the herring fishery under Framework 43 is 73.2 mt (161,377 lb). If the overall haddock catch cap is harvested, the project would be stopped.

The applicant intends to compare bycatch rates of 2 modified trawl designs and a standard midwater herring trawl. At any given time during the requested 26 research days, up to 4 vessels would conduct normal fishing activity in herring Management Area 3. Nets would be deployed by a combination of vessels, including up to two sets of midwater pair trawl vessels and two single midwater trawl vessels. The number of tows made per day would be dependent on weather, proper gear deployment and availability of herring, but can be estimated at 3-5 per day. Average duration of each tow is 3-4 hours at an estimated speed of 3.5 - 4 knots. In addition, participating vessels would research the vertical distribution and reaction behavior of herring and haddock during the seasonal and spatial overlap that occurs between these species on Georges Bank. Research is proposed for the period July 15 - October 30, 2006.

Regulations under the Magnuson-Stevens Fishery Conservation and Management Act require publication of this notification to provide interested parties the opportunity to comment on applications for proposed EFPs. The applicant may place requests for minor modifications and extensions to the EFP throughout the year. EFP modifications and extensions may be granted without further notice if they are deemed essential to facilitate completion of the proposed research and minimal so as not to change the scope or impact of the initially approved EFP request.

Authority: 16 U.S.C. 1801 et seq.

Dated: June 23, 2006.
James P. Burgess,
Acting Director, Office of Sustainable Fisheries, National Marine Fisheries Service.

[FR Doc. E6-10190 Filed 6-28-06; 8:45 am]

BILLING CODE 3510-22-S